DEPARTMENT OF TRANSPORTATION

Federal Aviation Administration

Twenty Fifth Meeting: RTCA Special Committee 213, Enhanced Flight Vision Systems/Synthetic Vision Systems (EFVS/SVS)

AGENCY: Federal Aviation Administration (FAA), U.S. Department of Transportation (DOT).

ACTION: Meeting Notice of RTCA Special Committee 213, Enhanced Flight Vision Systems/Synthetic Vision Systems (EFVS/SVS).

SUMMARY: The FAA is issuing this notice to advise the public of the twenty fifth meeting of the RTCA Special Committee 213, Enhanced Flight Vision Systems/Synthetic Vision Systems (EFVS/SVS).

DATES: The meeting will be held May 13-15, 2014 from 10:00 a.m.-5:00 p.m. on May 13th and 9:00 a.m.-4:00 p.m. on May 14th and 15th.

ADDRESSES: The meeting will be held at Airbus in France, Site de Saint Martin du Touch, 316 route de Bayonne, 31060 Toulouse Cedex 9.

FOR FURTHER INFORMATION CONTACT: Tim Etherington, tjetheri@rockwellcollins.com, (319) 295-5233, Patrick Krohn, pkrohn@uasc.com, (425) 602-1375 and The RTCA Secretariat, 1150 18th Street NW., Suite 910, Washington, DC 20036, or by telephone at (202) 330-0652/(202) 833-9339, fax at (202) 833-9434, or Web site at http://www.rtca.org. Additional contact information: please contact Patrick Krohn, pkrohn@uasc.com, telephone (425) 602-1375 or mobile at (425) 829-1996. RTCA contact is Jennifer Iverson, jiverson@rtca.org, (202) 330-0662.

SUPPLEMENTARY INFORMATION: Pursuant to section 10(a)(2) of the Federal Advisory Committee Act (Pub. L. 92-463, 5 U.S.C., App.), notice is hereby given for a meeting of Special Committee 213. The agenda will include the following:

May 13

Plenary Discussion (Sign in at 9:00 a.m.)

• Introductions and administrative items.

• Review and approve minutes from last full plenary meeting.

• Review of terms of reference.

• Status of DO-342A and DO-315C Drafts.

• Industry updates.

• WG-1 DO-315C draft review.

May 14

Plenary Discussion

• WG-1 DO-315C draft review.

May 15

Plenary Discussion

• WG-1 DO-315C draft review.

• WG-2 DO-342A draft review (time permitting).

• Administrative items (new meeting location/dates, action items etc.).

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 9, 2014.
Paige Williams,
Management Analyst, NextGen, Business Operations Group, Federal Aviation Administration.

[FR Doc. 2014-08619 Filed 4-16-14; 8:45 am]

BILLING CODE 4910-13-P